DEPARTMENT OF ENERGY

Federal Energy Regulatory Commission

Notice of FERC Staff Participation at MISO Conferences on Midwest Market Initiative Protocols and on Open Access Transmission and Energy Markets Tariff

June 17, 2003.

The Federal Energy Regulatory Commission hereby gives notice that members of its staff will attend two conferences sponsored by the Midwest Independent Transmission System Operator, Inc. (MISO) on its Midwest Market Initiative Protocols (MMI Protocols) and Open Access Transmission and Energy Markets Tariff. The staff's attendance is part of the Commission's ongoing outreach efforts. The first conference will be held on June 23 (10 a.m. to 4 p.m.) and June 24, 2003 (8 a.m. to noon), to discuss the MMI Protocols. The second conference will be held on July 1, 2003 (10 a.m. to 4 p.m.), to discuss the Open Access Transmission and Energy Markets Tariff. The conferences will be held at the Lakeside Corporate Center (directly across from MISO's headquarters), 701 City Center Drive, Carmel, IN 46032. These meetings are open to the public. The meetings may discuss matters at issue in Docket No. RM01-12-000, Remedying Undue Discrimination Through Open Access Transmission Service and Standard Electricity Market Design; in Docket No. EL02-65-000, et al., Alliance Companies, et al.; in Docket No. RT01-87-000, et al., Midwest Independent Transmission System Operator, Inc.; and in Docket No. ER03-323, et al., Midwest Independent Transmission System Operator, Inc.

For more information, contact Patrick Clarey, Office of Markets, Tariffs and Rates, Federal Energy Regulatory Commission at (317) 249-5937 or patrick.clarey@ferc.gov, or Christopher Miller, Office of Markets, Tariffs and Rates, Federal Energy Regulatory Commission at (317) 249-5936 or christopher.miller@ferc.gov.

Linda Mitry,
Acting Secretary.

[FR Doc. 03-15840 Filed 6-23-03; 8:45 am]

BILLING CODE 6717-01-P